DEPARTMENT OF ENERGY

Federal Energy Regulatory Commission

[Project No. 8315-010]

Verso Sartell LLC, AIM Development (USA) LLC; Notice of Application for Transfer of License, and Soliciting Comments and Motions To Intervene

On January 31, 2013, Verso Sartell LLC (transferor) and the AIM Development (USA) LLC (transferee) filed an application for the transfer of license for the Sartell Dam Project (FERC No. 8315), located on the Mississippi River in Stearns and Benton counties, Minnesota.

Applicants seek Commission approval to transfer the license for the Sartell Dam Project from the transferor to the transferee. The project is currently not producing power due to the permanent closure of the Sartell Paper Mill; which was the sole recipient of project power. Transferee plans to return ability of the project to provide consumable electricity.

Applicants' Contact: Transferor: Mr. Robert C. Fallon, Esq., Leonard, Street & Deinard, PA, 1350 I Street NW., Suite 800, Washington, DC 20005, telephone (202) 346-6910. Transferee: Mr. Jeffrey L. McGlin, General Manager, AIM Development (USA) LLC, 433 N. Main Street, Kimberly, WI 54136, telephone (920) 470-1061.

FERC Contact: Patricia W. Gillis (202) 502-8735, patricia.gillis@ferc.gov.

Deadline for filing comments and motions to intervene: 15 days from the issuance date of this notice. Comments and motions to intervene may be filed electronically via the Internet. See 18 CFR 385.2001(a)(1) and the instructions on the Commission's Web site under http://www.ferc.gov/docs-filing/efiling.asp. Commenters can submit brief comments up to 6,000 characters, without prior registration, using the eComment system at http://www.ferc.gov/docs-filing/ecomment.asp. You must include your name and contact information at the end of your comments. If unable to be filed electronically, documents may be paper-filed. To paper-file, an original plus seven copies should be mailed to: Kimberly D. Bose, Secretary, Federal Energy Regulatory Commission, 888 First Street NE., Washington, DC 20426. More information about this project can be viewed or printed on the eLibrary link of Commission's Web site at http://www.ferc.gov/docs-filing/elibrary.asp. Enter the docket number (P-8315) in the docket number field to access the document. For assistance, call toll-free 1-866-208-3372.

Dated: February 5, 2013.
Kimberly D. Bose,
Secretary.

[FR Doc. 2013-03010 Filed 2-8-13; 8:45 am]

BILLING CODE 6717-01-P